NUCLEAR REGULATORY COMMISSION

[NRC-2008-0391]

Notice of Availability of Draft Environmental Impact Statement for the Lost Creek In-Situ Recovery (ISR) Project in Sweetwater County, WY; Supplement to the Generic Environmental Impact Statement for In-Situ Leach Uranium Milling Facilities

AGENCY: Nuclear Regulatory Commission.

ACTION: Notice of Availability.

SUMMARY: Notice is hereby given that the U.S. Nuclear Regulatory Commission (NRC) is issuing for public comment a draft Supplemental Environmental Impact Statement (SEIS) for the Lost Creek In-Situ Uranium Recovery (ISR) Project. By letter dated March 20, 2008, Lost Creek ISR, LLC (LCI), a wholly-owned subsidiary of UR-Energy USA, Inc. submitted an application to the NRC for a new source material license for the Lost Creek ISR Project, which LCI proposes to be located in the Great Divide Basin in Sweetwater County, Wyoming. LCI is proposing to recover uranium from the Lost Creek ISR Project site using the in-situ leach (also known as the in-situ recovery ISR) process.

The Atomic Energy Act of 1954, as amended by the Uranium Mill Tailings Radiation Control Act of 1978, authorizes the NRC to issue licenses for the possession and use of source material and byproduct material. These statutes require that NRC license facilities, including ISR operations, in accordance with NRC regulatory requirements to protect public health and safety from radiological hazards. Under the NRC's environmental protection regulations in the Code of Federal Regulations, Title 10, Part 51 (10 CFR Part 51), that implement the National Environmental Policy Act of 1969 (NEPA), preparation of an Environmental Impact Statement (EIS) or supplement to an EIS (SEIS) is required for issuance of a license to possess and use source material for uranium milling (see 10 CFR 51.20(b)(8)).

In June 2009, the NRC staff issued NUREG-1910, “Generic Environmental Impact Statement for In-Situ Leach Uranium Milling Facilities” (herein referred to as the GEIS). In the GEIS, NRC assessed the potential environmental impacts from the construction, operation, aquifer restoration, and decommissioning of an ISR facility located in four specific geographic regions of the western United States. The proposed Lost Creek ISR Project is located within the Wyoming West Uranium Milling Region identified in the GEIS. This draft SEIS supplements the GEIS and incorporates by reference relevant portions from the GEIS, and uses site-specific information from the applicant's license application and other independent sources to fulfill the requirements in 10 CFR 51.20(b)(8).

DATES: The public comment period on the draft SEIS begins with publication of this notice and continues until February 1, 2010. Written comments should be submitted as described in the ADDRESSES section of this notice. The NRC will consider comments received, or postmarked, after that date to the extent practical.

ADDRESSES: You may submit comments by any one of the following methods. Please include Docket ID NRC-2008-0391 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2008-0391. Comments may be submitted electronically through this Web site. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446. Comments can also be submitted electronically to the following address: Lostcreekisrseis@nrc.gov.

Publicly available documents related to this notice can be accessed using the following methods:

NRC's Public Document Room (PDR): The public may examine and have copied, for a fee, publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to Pdr.Resource@nrc.gov. The “Environmental Impact Statement for the Lost Creek ISR Project in Sweetwater County, Wyoming—Supplement to the Generic Environmental Impact Statement for In-Situ Leach Uranium Milling Facilities” is available electronically under ADAMS Accession Number ML093350051.

The draft SEIS for the Lost Creek ISR Project also may be accessed on the internet at http://www.nrc.gov/reading-rm/doc-collections/nuregs/staff/ by selecting “NUREG-1910.” The draft SEIS will be a Supplement 3 to NUREG-1910. Additionally, a copy of the draft SEIS will be available at the following public libraries:

Sweetwater County Library, 300 North 1st Street East, Green River, Wyoming 82935, 307-875-8615.

Rock Springs Branch Library, 400 C Street, Rock Springs, Wyoming 82901, 307-352-6667.

Federal Rulemaking Web site: Public comments and supporting materials related to this notice can be found at http://www.regulations.gov by searching on Docket ID: NRC-2008-0391.

FOR FURTHER INFORMATION CONTACT: For information on environmental review process related to the draft SEIS for the Lost Creek Project, please contact Alan Bjornsen, Project Manager, Division of Waste Management and Environmental Protection (DWMEP), Mail Stop T-8F5, U.S. Nuclear Regulatory Commission, Washington, DC, 20555-001, by phone at 1 (800) 368-5642, extension 1195. For general or technical information associated with the safety and licensing of uranium milling facilities, please contact Stephen Cohen, Team Lead, Uranium Recovery Branch, DWMEP, Mail Stop T-8F5, U.S. Nuclear Regulatory Commission, Washington, DC 20555-0001, by phone at 1 (800) 368-5642, extension 7182.

SUPPLEMENTARY INFORMATION: The Atomic Energy Act of 1954, as amended by the Uranium Mill Tailings Radiation Control Act of 1978, authorizes NRC to issue licenses for the possession and use of source material and byproduct material. These statutes require that NRC license facilities, including ISR operations, in accordance with NRC regulatory requirements to project public health and safety from radiological hazards. ISR uranium recovery facilities must meet NRC regulatory requirements in order to obtain this license to operate. Under the NRC's environmental protection regulations in Title 10, Part 51.20(b)(8) of the Code of Federal Regulations (10 CFR Part 51), which implements NEPA, issuance of a license to possess and use source material for uranium milling requires an EIS or a supplement to an EIS.

To fulfill this requirement, the NRC staff and its contractor, the Center for Nuclear Waste Regulatory Analyses, in cooperation with the Wyoming Department of Environmental Quality (Land Quality Division), issued in June 2009, NUREG-1910, “Generic Environmental Impact Statement for In-Situ Uranium Milling Facilities” (the GEIS). The GEIS assessed the potential environmental impacts associated with the construction, operation, aquifer restoration, and decommissioning of an ISR facility in four specific geographic areas of the western United States (U.S.). The proposed Lost Creek ISR Project is located in one such region, the Wyoming West Uranium Milling Region. The GEIS evaluated the range of potential impacts in the four geographic regions and evaluated whether the potential impact would be essentially the same for all ISR facilities or whether site-specific information and analysis would be required to determine the potential impacts. As such, the GEIS provides a starting point for the NRC's NEPA analyses for site-specific license applications for new ISR facilities, as well as for applications to renew or amend existing ISR licenses.

By letter dated March 20, 2008, Lost Creek ISR, LLC (LCI), a wholly-owned subsidiary of UR Energy USA, Inc., submitted an application to the NRC for a new source material license for the Lost Creek ISR Project, which LCI proposes to be located 24 km (15 mi) southwest of the Town of Bairoil, and 61 km (38 mi) northwest of the Town of Rawlins. The City of Rock Springs is located approximately 135 km (53 mi) to the southwest, and the City of Casper is located approximately 144 km (90 mi) to the northwest of the Lost Creek ISR Project site. Planned facilities associated with the proposed Lost Creek ISR Project include a central plant with uranium processing capabilities; six well fields with injection, production, and monitor wells, header houses, pipeline to connect the well fields with the central plant, and an access road network. The proposed license area consists of approximately 1709 ha (4220 ac) and is remotely located on private land with about 15 percent of the surface rights being administered by the State of Wyoming. The U.S. Department of Interior, Bureau of Land Management (BLM) administers surface rights for the major part (85 percent) of the proposed project area. As such, the NRC coordinated its environmental review with BLM to promote efficiencies in each agencies environmental review. This coordination was undertaken in tandem with developing a Memorandum of Understanding (MOU) with the BLM which establishes a cooperating agency status between the agencies. The MOU was finalized on November 30, 2009, and NRC plans to use it in the review of applications that are in their early stages. This will allow us to effectively integrate BLM as a cooperating agency into the review of future applications.

ISR facilities recover uranium from low grade ores that may not be economically recoverable by other methods. In the ISR process, a leaching agent (called a lixiviant), such as oxygen and sodium bicarbonate, is added to native groundwater for injection through wells into the subsurface ore body to dissolve the uranium. Before ISR operations can begin, the portion of the aquifer designated for uranium recovery must be exempted by the U.S. Environmental Protection Agency (EPA) from being an underground source of drinking water in accordance with the Safe Drinking Water Act (as implemented by EPA at 40 CFR 146.4). The injected solution, now containing the dissolved uranium, is pumped back (recovered) to the surface and sent to a processing plant, where ion exchange is used to separate the uranium from the solution. The ISR process also frees other metals and minerals from the host aquifer. As a result, operators of ISR facilities are required to restore the groundwater affected by operations. In the processing plant, the recovered uranium is concentrated into the product known as “yellowcake.” For the Lost Creek ISR project, the final product is a yellowcake “slurry”, not dry yellowcake. The slurry from the Lost Creek ISR Facility would be shipped to an intermediate uranium processing facility, before being sent to a uranium fuel conversion facility.

In this draft SEIS, the NRC staff has assessed the potential environmental impacts from the construction, operation, aquifer restoration, and decommissioning of the proposed Lost Creek ISR Project. In doing so, the NRC staff evaluated site-specific data and information from the Lost Creek ISR Project to determine if the LCI's proposed activities and the site characteristics were consistent with those evaluated in the GEIS. NRC then determined which relevant sections of, and impact conclusions in, the GEIS could be incorporated by reference. The NRC staff also determined if additional data or analysis was needed to assess the potential environmental impacts for a specific environmental resource area. The NRC staff documented its assessments and conclusions in the draft SEIS.

In addition to the action proposed by LCI, the NRC staff addressed the no-action alternative in the draft SEIS. Under this alternative, NRC would deny LCI's request to construct and operate an ISR facility at the Lost Creek ISR Project. The no-action alternative serves as a baseline for comparison of the potential environmental impacts.

Another alternative action considered in the draft SEIS was the addition of a yellowcake dryer in the central processing plant. This would process the slurry into a dry yellowcake, thereby eliminating the necessity of transporting the slurry to another facility for drying. The end result would be direct transport of the dry yellowcake to a uranium fuel processing facility.

The NRC staff also considered other alternatives but eliminated them from detailed analysis. Conventional mining/milling and conventional mining/heap leach processing are two potential methods of uranium recovery at the Lost Creek ISR Project. However, given the recognized more substantial environmental impacts of conventional mining (whether by open pit or underground techniques) and conventional milling or heap leach processing, these alternatives were not further considered. The NRC staff also evaluated alternative lixiviants (acid- and ammonia-based), alternative waste disposal methods, and alternative site locations within the proposed license area. For reasons discussed in the draft SEIS, these alternatives also were eliminated from further consideration.

This draft SEIS is being issued for public comment. The public comment period on the draft SEIS begins with publication of this notice and continues until February 1, 2010. Written comments should be submitted as described in the ADDRESSES section of this notice. The NRC will consider comments received or postmarked after that date to the extent practical.

Dated at Rockville, Maryland, this 4th day of December, 2009.
For the U.S. Nuclear Regulatory Commission.
Patrice M. Bubar,
Deputy Director, Environmental Protection and Performance Assessment Directorate, Division of Waste Management and Environmental Protection, Office of Federal and State Materials and Environmental Management Programs.

[FR Doc. E9-29547 Filed 12-10-09; 8:45 am]

BILLING CODE 7590-01-P